DEPARTMENT OF ENERGY

Federal Energy Regulatory Commission

[Docket No. EC02-39-000, et al.]

UtiliCorp United Inc., et al.; Electric Rate and Corporate Regulation Filings

January 2, 2001.

Take notice that the following filings have been made with the Commission. Any comments should be submitted in accordance with Standard Paragraph E at the end of this notice.

1. UtiliCorp United Inc.

[Docket No. EC02-39-000]

Take notice that on December 28, 2001, UtiliCorp United Inc. (UtiliCorp), filed with the Federal Energy Regulatory Commission (Commission) an application pursuant to Section 203 of the Federal Power Act, 16 U.S.C. 824b, and part 33 of the Commission's regulations, 18 CFR part 33. UtiliCorp requests authorization and approval of the sale by UtiliCorp and the purchase by the KAMO Electric Cooperative, Inc. (KAMO) of certain limited transmission facilities within the city of El Dorado Springs, Missouri.

Comment Date: January 18, 2002.

2. UtiliCorp United Inc.

[Docket No. EC02-40-000]

Take notice that on December 28, 2001, UtiliCorp United Inc. (UtiliCorp), filed with the Federal Energy Regulatory Commission (Commission) an application pursuant to Section 203 of the Federal Power Act, 16 U.S.C. 824b, and part 33 of the Commission's regulations, 18 CFR part 33. UtiliCorp requests authorization and approval of the sale by UtiliCorp and the purchase by the City of El Dorado Springs, Missouri (El Dorado Springs) of an electrical substation along with a transmission line and related assets.

Comment Date: January 18, 2002.

3. Rayburn Country Electric Cooperative, Inc.

[Docket No. ER02-210-001]

Take notice that on December 27, 2001, Rayburn Country Electric Cooperative Inc., (Rayburn Electric) tendered for filing 1st Revised Rate Schedule No. 3 with the Federal Energy Regulatory Commission. Rayburn Electric has re-filed 1st Revised Rate Schedule No. 3 to comply with the requirements of Order No. 614 and as directed by the Commission in a letter order issued on December 7, 2001.

Comment Date: January 17, 2002.

4. Illinois Power Company

[Docket No. ER02-609-000]

Take notice that on December 26, 2001, Illinois Power Company (Illinois Power), filed with the Federal Energy Regulatory Commission (Commission) a Firm Long-Term Point-To-Point Transmission Service Agreement entered into with Dynegy Power Marketing, Inc. Illinois Power requests an effective date of January 1, 2002 for the agreement and seeks a waiver of the Commission's notice requirement. Illinois Power states that a copy of this filing has been sent to the customer.

Comment Date: January 16, 2002.

5. Progress Energy Inc. Florida Power Corporation

[Docket No. ER02-610-000]

Take notice that on December 26, 2001, Florida Power Corporation (FPC) tendered for filing an executed Osceola Facility Parallel Operation Agreement between FPC and Seminole Electric Cooperative, Inc. FPC is requesting an effective date of December 1, 2001 for this Rate Schedule.

A copy of the filing was served upon the Florida Public Service Commission and the North Carolina Utilities Commission.

Comment Date: January 16, 2002.

6. Illinois Power Company

[Docket No. ER02-611-000]

Take notice that on December 26, 2001, Illinois Power Company (Illinois Power), filed with the Federal Energy Regulatory Commission (Commission) a Firm Long-Term Point-To-Point Transmission Service Agreement entered into with Exelon Generation, L.L.C. Illinois Power requests an effective date of January 1, 2002 for the agreement and seeks a waiver of the Commission's notice requirement. Illinois Power states that a copy of this filing has been sent to Exelon Generation, L.L.C.

Comment Date: January 16, 2002.

7. Xcel Energy Services Inc.

[Docket No. ER02-612-000]

Take notice that on December 26, 2001, Xcel Energy Services Inc. (XES), on behalf of Southwestern Public Service (SPS), submitted for filing an Interconnection Agreement between SPS and Texas New Mexico Power Company.

SPS requests that the Commission accept the agreement effective December 9, 2001, and requests waiver of the Commission's notice requirements in order for the agreements to be accepted for filing on the date requested.

Comment Date: January 16, 2002.

8. Calpine Energy Services, L.P.

[Docket No. ER02-614-000]

Take notice that on December 27, 2001, Calpine Energy Services, L.P., (the Applicant) tendered for filing, under section 205 of the Federal Power Act, an amendment to its rate schedule for authorization to make wholesale sales of certain ancillary services at market-based rates, to reassign transmission capacity, and to resell firm transmission rights.

Comment Date: January 17, 2002.

9. Western Resources, Inc.

[Docket No. ER02-616-000]

Take notice that on December 26, 2001, Western Resources, Inc. (WR) tendered for filing a Service Agreement between WR and Energy USA—TPC Corp. WR states that the purpose of this agreement is to permit Energy USA—TPC Corp. to take service under WR's Market Based Power Sales Tariff on file with the Commission. This agreement is proposed to be effective December 21, 2001.

Copies of the filing were served upon Energy USA—TPC Corp. and the Kansas Corporation Commission.

Comment Date: January 16, 2002.

10. New York Independent System Operator, Inc.

[Docket No. ER02-617-000]

Take notice that on December 27, 2001, the New York System Operator, Inc. (NYISO) tendered for filing proposed revisions and additions to its Market Administration and Control Area Services Tariff (Services Tariff) designed to provide for payments to qualified suppliers of voltage support service. The NYISO has requested that the Commission act on this filing in an expedited manner, waive its usual 60-day notice period requirement and make the filing effective no later than January 1, 2002.

The NYISO has served a copy of this filing on all persons that have executed Service Agreements under the NYISO Services Tariff or the NYISO Open Access Transmission Tariff, on the New York Public Service Commission, and on the electric utility regulatory agencies in New Jersey and Pennsylvania. The NYISO has also emailed a copy of this filing to all of the subscribers to the NYISO Technical Information Exchange list.

Comment Date: January 17, 2002.

11. Mid-Continent Area Power Pool

[Docket No. ER02-618-000]

Take notice that on December 28, 2001, the Mid-Continent Area Power Pool (MAPP), on behalf of its public utility members, filed long-term firm point-to-point service agreements under MAPP Schedule F with Split Rock Energy and Utilicorp United, Inc.

Comment Date: January 18, 2002.

12. Public Service Company of New Mexico

[Docket No. ER02-619-000]

Take notice that on December 27, 2001, Public Service Company of New Mexico (PNM) filed a Notice of Cancellation with the Federal Energy Regulatory Commission (Commission) with respect to Amended and Restated Service Schedule C—Electric Service, under the Interconnection Agreement between PNM and the City of Farmington, New Mexico (COF) (Supplement No. 8 to PNM Rate Schedule FERC No. 51). Pursuant to the provisions of Amended and Restated Service Schedule C (Service Schedule C), Public Service Company of New Mexico provided notice to COF of its intent to terminate the service schedule. Consistent with the provisions of Service Schedule C, PNM's notice of termination and the notice requirements of 18 CFR 35.15, PNM requests that cancellation of Supplement No. 8 (as supplemented) to PNM Rate Schedule FERC No. 51 become effective on March 1, 2002.

A copy of the filing has been served upon COF and an informational copy was provided to the New Mexico Public Regulation Commission. The Notice of Cancellation is available for public inspection during normal business hours at PNM's offices in Albuquerque, New Mexico.

Comment Date: January 17, 2002.

13. Florida Power & Light Company

[Docket No. ER02-620-000]

Take notice that on December 27, 2001 Florida Power & Light Company (FPL) tendered for filing a proposed service agreement with City of Homestead for Long-Term Firm transmission service under FPL's Open Access Transmission Tariff.

FPL requests that the proposed service agreement becomes effective on December 21, 2001.

FPL states that this filing is in accordance with Section 35 of the Commission's regulations.

Comment Date: January 17, 2002.

14. Exelon Generation Company, LLC

[Docket No. ER02-621-000]

Take notice that on December 27, 2001, Exelon Generation Company, LLC (Exelon Generation) submitted for filing a power sales service agreement between Exelon Generation and Dynegy Power Marketing, Inc., under Exelon Generation's wholesale power sales tariff, FERC Electric Tariff Original Volume No. 2.

Comment Date: January 17, 2002.

15. New England Power Company

[Docket No. ER02-622-000]

Take notice that on December 27, 2001, New England Power Company (NEP) tendered for filing First Revised Service Agreement No. 4 for service under NEP's Wholesale Market Sales Tariff, FERC Electric Tariff, Original Volume No. 10 between NEP and Constellation Power Source, Inc.

Comment Date: January 17, 2002.

16. NewCorp Resources Electric Cooperative, Inc.

[Docket No. ER02-623-000]

Take notice that on December 27, 2001, NewCorp Resources Electric Cooperative, Inc. (NCR) tendered for filing with the Federal Energy Regulatory Commission (Commission) amendments to its Tariff for Electric Service (Tariff), which was previously accepted by the Commission in Docket No. ER95-973-000, and was revised pursuant to a notice of succession accepted in Docket No. ER97-1689-000. NCR proposes to change its rate design without increasing its tariff rates in order to unbundle the transmission service component from the power sales component of its rates, to true up its cost-of-service formula based on actual costs for 2000, to modify its purchased power adjustment clause to eliminate monthly demand cost adjustments, and to revise the list of delivery points for Cap Rock Electric Cooperative, Inc. NewCorp proposes that these changes be allowed to take effect on January 1, 2002, and requests waiver of notice requirements to allow this effective date.

Comment Date: January 17, 2002.

17. Allegheny Power Service Corporation, on behalf of Monongahela Power Company, The Potomac Edison Company, and West Penn Power Company (Allegheny Power)

[Docket No. ER02-624-000]

Take notice that on December 26, 2001, Allegheny Power Service Corporation on behalf of Monongahela Power Company, The Potomac Edison Company and West Penn Power Company (Allegheny Power), filed Service Agreement No. 368 to add Exelon Generation Company, L.L.C. to Allegheny Power's Open Access Transmission Service Tariff which has been accepted for filing by the Federal Energy Regulatory Commission. The proposed effective date under the Service Agreement is January 1, 2002.

Comment Date: January 16, 2002.

18. Pinnacle West Capital Corporation

[Docket No. ER02-625-000]

Take notice that on December 26, 2001, Pinnacle West Capital Corporation (PWCC) tendered for filing with the Federal Energy Regulatory Commission (FERC or Commission) a Service Agreement, Rate Schedule FERC No. 5, under PWCC's rate Schedule FERC No. 1 for service to Tohono O'odham Utility Authority (TOUA).

A copy of this filing has been served on TOUA.

Comment Date: January 16, 2002.

19. West Penn Power Company

[Docket No.ER02-626-000]

Take notice that on December 26, 2001, Allegheny Energy Service Corporation on behalf of West Penn Power Company (West Penn), submitted a Notice of Cancellation of Service Agreement No. 15 (including its Amendments and Supplements) with the Borough of Tarentum, a customer under West Penn's Rate Schedule designated as FERC Electric Tariff, First Revised Volume No. 1.

West Penn has requested that the cancellation be effective March 16, 2002.

Comment Date: January 16, 2002.

20. Carolina Power & Light Company

[Docket No. ER02-627-000]

Take notice that on December 27, 2001, Progress Energy, Inc. (Progress Energy), on behalf of Carolina Power & Light Company (CP&L), tendered for filing with the Federal Energy Regulatory Commission (Commission) revised service agreements (Revised Service Agreements) executed by Florida Power Corporation (FPC) under CP&L's open-access transmission tariff (OATT), FERC Electric Tariff, Third Revised Volume No. 3 (CP&L's OATT), to comply with the Commission's June 25, 2001, September 21, 2001 and November 26, 2001 orders in Docket Nos. ER01-1807-007, et al. and ER01-2020-000, et al. See Carolina Power & Light Co. and Florida Power Corp., 95 FERC ¶ 61,429 (2001). Progress Energy also tendered for filing an index of FPC's Service Agreements as filed under CP&L's OATT.

Progress Energy respectfully requests that the Revised Service Agreements become effective on the date set forth on the cover sheet for each Revised Service Agreement.

Copies of the filing were served upon the Commission's official service list and the North Carolina Utilities Commission, the South Carolina Public Service Commission and the Florida Public Service Commission.

Comment Date: January 17, 2002.

21. El Paso Electric Company, Public Service Company of New Mexico, Texas-New Mexico Power Company

[Docket No. ER02-628-000]

Take notice that on December 27, 2001, El Paso Electric Company, Public Service Company of New Mexico, and Texas-New Mexico Power Company (collectively, Utilities) jointly tendered for filing an Interconnection Agreement between the Utilities and Duke Energy Luna, LLC under each of the Utilities' Open-Access Transmission Tariffs. The Utilities request that the Interconnection Agreement be permitted to become effective on December 26, 2001. The Utilities state that this filing is in accordance with part 35 of the Commission's regulations, 18 CFR 35, and that a copy has been served on the Texas Public Utility Commission and the New Mexico Public Regulation Commission.

Comment Date: January 17, 2002.

22. Talbot EMC

[Docket No. ER02-629-000]

Take notice that on December 27, 2001, Talbot EMC tendered for filing with the Federal Energy Regulatory Commission (Commission) an initial rate schedule pursuant to Section 205 of the Federal Power Act and Section 35.12 of the Commission's Regulations.

This filing consists of the Power Purchase Agreements, dated as of November 1, 2001, between Talbot EMC and each of its 30 member distribution cooperatives (the Members) pursuant to which Talbot EMC will sell power and/or energy to those Members. Copies of the filing were served upon all of the Members.

Talbot EMC is seeking wiavers of certain Commission requirements as part of this filing.

Comment Date: January 17, 2002.

23. Exelon Generation Company, LLC

[Docket No. ER02-630-000]

Take notice that on December 27, 2001, Exelon Generation Company, LLC (Exelon Generation), submitted for filing a power sales service agreement between Exelon Generation and Old Dominion Electric Cooperative under Exelon Generation's wholesale power sales tariff, FERC Electric Tariff Original Volume No. 2.

Comment Date: January 18, 2002.

24. Exelon Generation Company, LLC

[Docket No. ER02-631-000]

Take notice that on December 28, 2001, Exelon Generation Company, LLC (Exelon Generation), submitted for filing a power sales service agreement between Exelon Generation and Mirant Americas Energy Marketing, LP under Exelon Generation's wholesale power sales tariff, FERC Electric Tariff Original Volume No. 2.

Comment Date: January 18, 2002.

25. Exelon Generation Company, LLC

[Docket No. ER02-632-000]

Take notice that on December 28, 2001, Exelon Generation Company, LLC (Exelon Generation), submitted for filing a power sales service agreement between Exelon Generation and The New Power Company under Exelon Generation's wholesale power sales tariff, FERC Electric Tariff Original Volume No. 2.

Comment Date: January 18, 2002.

26. Commonwealth Edison Company

[Docket No. ER02-633-000]

Take notice that on December 28, 2001, Commonwealth Edison Company (ComEd) submitted for filing an unexecuted Service Agreement for Short-Term Firm Point-to-Point Transmission Service and an associated unexecuted Dynamic Scheduling Agreement with Exelon Generation Company, LLC (Exelon).

ComEd requests an effective date of January 1, 2002 and accordingly seeks waiver of the Commission's notice requirements.

Copies of the filing were served on Exelon and Ormet.

Comment Date: January 18, 2002.

27. Delmarva Power & Light Company

[Docket No. ER02-634-000]

Take notice that on December 28, 2001, Delmarva Power & Light Company (Delmarva) tendered for filing an Interconnection Agreement between Delmarva and the Delaware Municipal Electric Corporation (DEMEC). The Interconnection Agreement provides for the interconnection of DEMEC's generating facilities with the Delmarva transmission system.

Delmarva respectfully requests that the Interconnection Agreement become effective on December 31, 2001.

Copies of the filing were served upon the Delaware Public Service Commission, the Maryland Public Service Commission and the Virginia State Corporation Commission.

Comment Date: January 18, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-394 Filed 1-7-02; 8:45 am]

BILLING CODE 6717-01-P